DEPARTMENT OF DEFENSE

Office of the Secretary

[Docket ID: DoD-2023-OS-0074]

Proposed Collection; Comment Request

AGENCY: United States Special Operations Command (USSOCOM), Department of Defense (DoD).

ACTION: 60-Day information collection notice.

SUMMARY: In compliance with the Paperwork Reduction Act of 1995, the United States Special Operations Command (USSOCOM) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 27, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Department of Defense, Washington Headquarters Services, ATTN: Executive Services Directorate, Directives Division, 4800 Mark Center Drive, Suite 03F09-09, Alexandria, VA 22350-3100, Angela Duncan, 571-372-7574.

SUPPLEMENTARY INFORMATION:

Title; Associated Form; and OMB Number: Optimizing Brain Health by Mitigating Post Traumatic Stress Disorder, OMB Control Number 0704-0654.

Needs and Uses: The objective is to identify barriers and facilitators of accessing PTSD treatment that are most important to the Special Operations Forces (SOF) community via an online confidential survey of all relevant stakeholders in the healthcare delivery process (N=1,536). Stakeholders will include operators/enablers, healthcare providers, leadership, and policy makers from all SOF commands (Army, Air Force, Naval Special Warfare, Marine). We will then conduct qualitative interviews with SOF operators/enablers (N=24) to generate solutions to the barriers identified in the survey.

Affected Public: Individuals and households.

Survey

Annual Burden Hours: 768.

Number of Respondents: 1,536.

Responses per Respondent: 1.

Annual Responses: 1,536.

Average Burden per Response: 30 minutes.

Qualitative Interview

Annual Burden Hours: 24.

Number of Respondents: 24.

Responses per Respondent: 1.

Annual Responses: 24.

Average Burden per Response: 1 Hour.

Frequency: On occasion.

Dated: August 21, 2023.
Aaron T. Siegel,
Alternate OSD Federal Register Liaison Officer, Department of Defense.

[FR Doc. 2023-18405 Filed 8-25-23; 8:45 am]

BILLING CODE 5001-06-P